DEPARTMENT OF DEFENSE

Department of the Navy

Notice of Availability of Record of Decision for TRIDENT Support Facilities Explosives Handling Wharf at Naval Base Kitsap at Bangor, Kitsap County, WA

AGENCY: Department of the Navy, DoD.

ACTION: Notice.

SUMMARY: The United States Department of the Navy (DoN), after carefully weighing the operational and environmental consequences of the proposed action, announces its decision to construct and operate an Explosives Handling Wharf (EHW-2) adjacent to the existing Explosives Handling Wharf in Hood Canal on the waterfront of Naval Base Kitsap (NBK) at Bangor, WA. The DoN has decided to implement the preferred alternative, Alternative 1, Combined Trestle, Large Pile Wharf, as described in the TRIDENT Support Facilities EHW-2 Final Environmental Impact Statement (FEIS) dated March 2012. Alternative 1 is also the Environmentally Preferable Alternative and will fully meet the DoN's purpose and need to support future program requirements for TRIDENT submarines homeported at NBK at Bangor, Washington, and the TRIDENT II (D5) Strategic Weapons System. This decision will allow the DoN to continue support of TRIDENT Program operational requirements through 2042.

SUPPLEMENTARY INFORMATION: The complete text of the Record of Decision (ROD) is available for public viewing on the project Web site at http://www.nbkeis.com/ehw, along with copies of the FEIS and supporting documents. Single copies of the ROD will be made available upon request by contacting: Ms. Christine Stevenson, Naval Facilities Engineering Command Northwest, 1101 Tautog Circle, Silverdale, WA 98315-1101, telephone number 360-396-0080, email christine.stevenson@navy.mil.

Dated: May 15, 2012.
J.M. Beal,
Lieutenant Commander, Judge Advocate General's Corps, U.S. Navy, Federal Register Liaison Officer.

[FR Doc. 2012-12109 Filed 5-17-12; 8:45 am]

BILLING CODE 3810-FF-P